DEPARTMENT OF AGRICULTURE

Federal Crop Insurance Corporation

7 CFR Part 457

[Docket ID FCIC-22-0007]

RIN 0563-AC80

Walnut Crop Insurance Provisions; Correction

AGENCY: Federal Crop Insurance Corporation, U.S. Department of Agriculture (USDA).

ACTION: Correcting amendment.

SUMMARY: On October 25, 2022, the Federal Crop Insurance Corporation (FCIC) revised the Walnut Crop Insurance Provisions. That final rule contained an incorrect instruction in the Settlement of Claim section. This document makes the correction.

DATES: Effective December 16, 2022.

FOR FURTHER INFORMATION CONTACT: Francie Tolle; telephone (816) 926-7730; email francie.tolle@usda.gov. Persons with disabilities who require alternative means of communication should contact the USDA Target Center at (202) 720-2600 or (844) 433-2774.

SUPPLEMENTARY INFORMATION:

Background

The Common Crop Insurance Regulations in 7 CFR part 457 were revised by a final rule with request for comments published in the Federal Register on October 25, 2022 (87 FR 64365). Changes were made in that rule to the Walnut Crop Insurance Provisions. In reviewing the changes made, FCIC found an incorrect instruction in the Settlement of Claim section. This document makes the correction in the Walnut Crop Insurance Provisions.

List of Subjects in 7 CFR Part 457

Acreage allotments, Crop insurance, Reporting and recordkeeping requirements.

Accordingly, 7 CFR part 457 is corrected by making the following amendment:

PART 457—COMMON CROP INSURANCE REGULATIONS

1. The authority citation for part 457 continues to read as follows:

Authority: 7 U.S.C. 1506(l) and 1506(o).

2. In § 457.122, in the “Walnut Crop Provisions,” in section 11, revise paragraph (d).

The revision reads as follows:

§ 457.122 Walnut crop insurance provisions.

* * * * *

11. Settlement of Claim

* * * * *

(d) Mature walnut production damaged due to an insurable cause of loss which occurs within the insurance period may be adjusted for quality based on an inspection by the Dried Fruit Association or during our loss adjustment process. Walnut production that has mold damage greater than 8 percent, based on the net delivered weight, will be reduced by the quality adjustment factors contained in the Special Provisions. If walnut production exceeds 30 percent mold damage and will not be sold, the production to count will be zero.

* * * * *

Marcia Bunger,
Manager, Federal Crop Insurance Corporation.

[FR Doc. 2022-27228 Filed 12-15-22; 8:45 am]

BILLING CODE 3410-08-P